DEPARTMENT OF TRANSPORTATION

Federal Highway Administration

Environmental Impact Statement: Dallas And Ellis Counties, Texas

AGENCY: Texas Department of Transportation (TxDOT), Federal Highway Administration (FHWA), Department of Transportation.

ACTION: Federal Notice of Intent to prepare an Environmental Impact Statement (EIS).

SUMMARY: The FHWA, on behalf of TxDOT, is issuing this notice to advise the public that an EIS will be prepared for a proposed transportation project to construct a six-lane new location frontage road system between United States 67 (US 67) and Interstate 35 East (IH 35E) through Dallas and Ellis Counties, Texas.

FOR FURTHER INFORMATION CONTACT: Carlos Swonke, Division Director, TxDOT Environmental Affairs Division, 125 East 11th Street, Austin, Texas 78701; Phone (512) 416-2734; email: carlos.swonke@txdot.gov. TxDOT's normal business hours are 8:00 a.m.-5:00 p.m. (central time), Monday through Friday.

SUPPLEMENTARY INFORMATION: The environmental review, consultation, and other actions required by applicable Federal environmental laws for this project are being, or have been, carried-out by TxDOT pursuant to 23 U.S.C. 327 and a Memorandum of Understanding dated December 16, 2014, and executed by FHWA and TxDOT.

TxDOT will prepare an EIS for the proposed construction of a six-lane new location frontage road system for the portion of the proposed Loop 9 Southeast roadway system between United States 67 (US 67) and Interstate 35 East (IH 35E) through Dallas and Ellis Counties, Texas, which is known as “Segment A.” The project is approximately 9.4-miles in length and would pass through the communities of Cedar Hill, Midlothian, Ovilla, Glenn Heights, and Red Oak. The new location frontage road system would include an eastbound and westbound frontage road facility, each consisting of three 12 foot (ft.) lanes, an 8-ft inside shoulder, and an 8 ft. outside shoulder for bicycle accommodations within the rural section of the proposed roadway. The proposed project ROW would include a median (358 to 512 ft. wide) that would accommodate the future construction of an ultimate access-controlled mainlane facility. Construction of the ultimate access-controlled mainlane facility would be based on projected traffic and funding and would require additional environmental analysis prior to construction.

The EIS will evaluate a range of build alternatives and a no-build alternative. Possible build alternatives include the three alternatives developed to date to be considered and evaluated in the EIS. In general, from Tar Road to approximately 0.9 miles east of S. Joe Wilson Road, a distance of approximately 2.8 miles, three build alternatives are being considered. East and west of these limits, each alternative shares a common alignment to the project termini.

Alternative 1 (2.78 miles), the northernmost alternative, diverges from the common alignment at Tar Road heading east, then immediately turns northeast before crossing S. Joe Wilson Road and converging back with the common alignment.

Alternative 2 (2.76 miles), the central most alternative, diverges from the common alignment at Tar Road heading east, then immediately turns northeast; however, this alignment follows a straighter path between Tar Road and S. Joe Wilson Road. After S. Joe Wilson Road, the alternative continues in a northeast direction before converging back with the common alignment.

Alternative 3 (2.84 miles), the southernmost alternative, diverges from the common alignment at Tar Road and keeps east for a distance of 0.8 miles centered on existing Knight Street. At the end of Knight Street, the alternative shifts northeast before crossing S. Joe Wilson Road and converging back with the common alignment.

TxDOT will issue a single Final Environmental Impact Statement and Record of Decision document pursuant to 23 U.S.C. 139(n)(2), unless TxDOT determines statutory criteria or practicability considerations preclude issuance of a combined document.

In accordance with 23 U.S.C. 139, cooperating agencies, participating agencies, and the public will be given an opportunity for continued input on project development. A public scoping meeting is planned for Summer 2019. An agency scoping meeting will also be held with participating and cooperating agencies. The agency and public scoping meetings will provide an opportunity for the participating/cooperating agencies and public to review and comment on the draft coordination plan and schedule, the project purpose and need, the range of alternatives, and methodologies and level of detail for analyzing alternatives. In addition to the agency and public scoping meetings, a public hearing will be held. Public notice will be given of the time and place of the meetings and hearing.

(Catalog of Federal Domestic Assistance Program Number 20.205, Highway Planning and Construction.)

Issued on: May 14, 2019.
Michael T. Leary,
Director, Planning and Program Development, Federal Highway Administration.

[FR Doc. 2019-10440 Filed 5-17-19; 8:45 am]

BILLING CODE 4910-22-P